NUCLEAR REGULATORY COMMISSION

Advisory Committee on the Medical Uses of Isotopes: Meeting Notice

AGENCY: U.S. Nuclear Regulatory Commission.

ACTION: Re-notice of meeting.

SUMMARY: The U.S. Nuclear Regulatory Commission (NRC) will convene a meeting of the Advisory Committee on the Medical Uses of Isotopes (ACMUI) on March 30, 2020. This meeting notice, published in the Federal Register on February 19, 2020, is being re-noticed to inform members of the public that this meeting will now be conducted on March 30, 2020 via teleconference.

DATES: March 30, 2020 from 9:30 a.m. to 5:00 p.m. Eastern Standard Time.

FOR FURTHER INFORMATION CONTACT: Ms. Kellee Jamerson, email: Kellee.Jamerson@nrc.gov, telephone: (301) 415-7408.

SUPPLEMENTARY INFORMATION: The current agenda and any updates are available at http://www.nrc.gov/reading-rm/doc-collections/acmui/meetings/2020.html or by emailing Ms. Kellee Jamerson at the contact information above. The agenda is subject to change.

Purpose: Discuss issues related to 10 CFR part 35 Medical Use of Byproduct Material.

Public Participation: Any member of the public who wishes to participate in the meeting should contact Ms. Jamerson using the information above. The meeting will also use the WebEx application.

Conduct of the Meeting

Darlene Metter, M.D. will chair the meeting. Dr. Metter will conduct the meeting in a manner that will facilitate the orderly conduct of business. The following procedures apply to public participation in the meeting:

1. Persons who wish to provide a written statement should submit an electronic copy to Ms. Jamerson using the contact information listed above. All submittals must be received by March 25, 2020, three business days before the meeting, and must pertain to the topics on the agenda for the meeting.

2. Questions and comments from members of the public will be permitted at designated times during the meeting, at the discretion of the ACMUI Chairman.

3. The draft transcript and meeting summary will be available on the ACMUI's website http://www.nrc.gov/reading-rm/doc-collections/acmui/meetings/2020.html on or about May 12, 2020.

This meeting will be held in accordance with the Atomic Energy Act of 1954, as amended (primarily Section 161a); the Federal Advisory Committee Act (5 U.S.C. App); and the Commission's regulations in Title 10 of the Code of Federal Regulations, Part 7.

Dated at Rockville, Maryland this 18th day of March, 2020.
For the U.S. Nuclear Regulatory Commission.
Russell E. Chazell,
Advisory Committee Management Officer.

[FR Doc. 2020-06073 Filed 3-20-20; 8:45 am]

BILLING CODE 7590-01-P